DEPARTMENT OF HEALTH AND HUMAN SERVICES

Centers for Disease Control and Prevention

[60Day-14-14CW]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health and Socioeconomic Sequelae of the WTC Disaster among Responders—New—National Institute for Occupational Safety and Health (NIOSH), Centers for Disease Control and Prevention (CDC).

Background and Brief Description

Since the inception of the World Trade Center (WTC) Medical Monitoring and Treatment Program (MMTP), health reports have focused on disorders of the aerodigestive tract and mental health consequences, and with the exception of spirometry, comparisons with general and normative population data have not been made. Furthermore, none of the previous studies comprehensively evaluated the changes of socioeconomic status in WTC responders after 9/11. Lowered socioeconomic status (SES) is an important potential consequence of WTC exposures that can negatively impact the physical and mental health status among WTC responders. The main objective of this study is to establish an expanded occupational health surveillance system that summarizes overall health status of WTC responders over time, and also provides information about symptoms not previously reported. Through this work, it is possible that other health outcomes will be identified and reported, such as autoimmune disorders. This expanded surveillance system will supplement reports the WTC Data Center (DC) will be providing. To provide a reference population, the WTC cohort will be compared to the National Center for Health Statistics (NCHS) and the Behavioral Risk Factor Surveillance System (BRFSS) to compare physical and mental health status by matching variables. The comparison will estimate the magnitude of the impact of WTC exposure on the health of WTC responders compared with the general population in U.S. and New York-White Plains-Wayne, NY/NJ metropolitan area. Findings from this expanded surveillance will be reported through an integrated occupational health surveillance report. The term “integrated occupational health surveillance report” means a detailed and overall description of health status over time, with a comparison of groups both within the cohort and from the general population. The findings from this report will also aid in the future development of new guidelines for the implementation of an occupational health surveillance system for disasters, which is essential for disaster preparedness. Along with implementing a surveillance system, an additional objective will be to investigate ambi-directional effect modification between SES and health status. By ascertaining effect modification, SES will be added as one of the important variables necessary to perform surveillance. The study hypotheses for the effect modification investigation are (1) WTC exposures lower health status; (2) WTC exposures lower socioeconomic status; and (3) an interaction effect exists between these variables. This investigation for effect modification between health and SES is a unique research topic that has not been studied for WTC responders. Understanding the nature of the linkage between health and SES will help to identify high risk groups and offer a primary target for prevention and intervention strategies. With successful completion of this 2-year study, we expect a substantial improvement of the occupational health surveillance system for WTC responders.

The World Trade Center (WTC) research team at the North Shore-LIJ Health System is seeking to evaluate the impact of using modified survey questions versus standard questions when participant responses from the WTC and general populations are compared.

The WTC Health Program has been collecting self-reported health information for medical monitoring purposes. Initially, the questions were derived from multiple standard general population surveys, such as the National Health and Nutrition Examination Survey (NHANES) and the National Health Interview Survey (NHIS). However, certain questions were modified from their standard versions, and we would like to determine whether these modifications may lead study participants to answer differently.

CDC requests Office of Management and Budget (OMB) approval to collect information from an anonymous (no personal information will be collected) and voluntary questionnaire, in order to test this research question. We will compare participant responses to a short questionnaire (approximately two pages of main content) which will contain both the modified and standard questions.

The total estimated burden for the one-time completion of the anonymous questionnaire is 50 hours (600 respondents × 5 minutes each). Blank questionnaires will be placed in the waiting area of the Queens WTC Clinical Center of Excellence at Long Island Jewish Medical Center/Queens College (Queens WTC Clinical Centers of Excellence). There will be no verbal solicitation for participation; however, we will post a written advertisement in the waiting area of the clinic.

CDC anticipates that questionnaire collection will take place from December 2014-December 2015. The total estimated annualized burden hours are 50.

There are no costs to respondents other than their time.

Estimated Annualized Burden Hours
Type of respondents | Form name | Number of respondents | Number of responses per respondent | Average burden per response (in hrs.) | Total burden (in hrs.)
Individual WTC Responders | Health and Socioeconomic Sequelae of the WTC Disaster among Responders | 600 | 1 | 5/60 | 50
Total |  |  |  |  | 50

LeRoy Richardson,
Chief, Information Collection Review Office, Office of Scientific Integrity, Office of the Associate Director for Science, Office of the Director, Centers for Disease Control and Prevention.

[FR Doc. 2013-28296 Filed 11-25-13; 8:45 am]

BILLING CODE 4163-18-P